NATIONAL SCIENCE FOUNDATION

Advisory Panel Meeting for Ecological Studies: Notice of Meeting

In accordance with the Federal Advisory Committee Act (Pub. L. 92-463, as amended), the National Science Foundation announces the following meeting.

Name and Committee Code: Advisory Panel for Ecological Studies (#1751).

Date and Time: October 12, 2000, 8:00 a.m.-5:00 p.m. thru October 13, 2000, 8:00 a.m.-Adjourn.

Place: National Science Foundation, 4201 Wilson Boulevard, Room 373, Arlington, VA 22230.

Type of Meeting: Closed.

Contact Person: Dr. Penelope Firth, Program Officer or Dr. Carol Johnston, Program Officer, Ecological Studies, Room 640N, National Science Foundation, 4201 Wilson Boulevard, Arlington, Virginia 22230. Telephone: (703) 292-8481.

Minutes: May be obtained from the contact person listed above.

Purpose of Meeting: To provide advice and recommendations concerning proposals to the National Science Foundation (NSF) for financial support.

Agenda: To review and evaluate proposals submitted in response to the Ecological Studies Ecosystem Studies Program Solicitation (99-2).

Reason for Closing: The proposals being reviewed include information of a proprietary or confidential nature, including technical information; financial data, such as salaries; and personal information concerning individuals associated with the proposals. These matters are exempt under 5 U.S.C. 552b(c), (4), and (6) of the Government in the Sunshine Act.

Dated: October 3, 2000.
Karen J. York,
Committee Management Officer.

[FR Doc. 00-25823 Filed 10-6-00; 8:45 am]

BILLING CODE 7555-01-M